DEPARTMENT OF COMMERCE

Bureau of Industry and Security

Action Affecting Export Privileges; Wen Enterprises, Ning Wen, Hailin Lin, and Beijung Rich Linscience Electronics Company; Order Temporarily Denying Export Privileges

In the Matters of: Wen Enterprises, 402 Wild Oak Drive, Manitowoc, WI 54220; and, Ning Wen, 402 Wild Oak Drive, Manitowoc, WI 54220; and, Hailin Lin, 402 Wild Oak Drive, Manitowoc, WI 54220; and, Beijing Rich Linscience Electronics Company, No. 2 Zhong Guan Cun South Avenue, Cyber Mode Room 1001, Haidian District, Beijing, People's Republic of China 100086; Respondents.

Pursuant to Section 766.24 of the Export Administration Regulations (“EAR”),¹ the Bureau of Industry and Security (“BIS”), U.S. Department of Commerce, through its Office of Export Enforcement (“OEE”), has requested that I issue an Order temporarily denying export privileges of Wen Enterprises (“WE”), 402 Wild Oak Drive, Manitowoc, WI 54220; Ning Wen (“Wen”), 402 Wild Oak Drive, Manitowoc, WI 54220; Hailin Lin (“Lin”), 402 Wild Oak Drive, Manitowoc, WI 54220; and Beijing Rich Linscience Electronics Company (“BRLE”), No. 2 Zhong Guan Cun South Avenue, Cyber Mode Room 1001, Haidian District, Beijing, China 100086 (hereinafter collectively referred to as the “Respondents”).

¹ The EAR, which are currently codified at 15 CFR Parts 730-774 (2004), are issued under the Export Administration Act of 1979, as amended (50 U.S.C. app. 2401-2420) (2000) (the “Act”). The EAA was in effect from November 13, 2000 through August 20, 2001 but lapsed on August 21, 2001. However, the President, through Executive Order 13222 of August 17, 2001 (3 CFR, 2001 Comp. 783 (2002)), as extended by the Notice of August 6, 2004 (69 FR 48763, August 10, 2004), has continued the EAR in effect under the International Emergency Economic Powers Act (50 U.S.C. 1701-1706 (2000)).

BIS has presented evidence that shows that Respondents have conspired together and with others, known and unknown, to illegally export items subject to the EAR, including national security controlled electronic components, to the People's Republic of China (“PRC”) without the Department of Commerce necessary licenses. Specifically, the evidence shows that WE's sole business is exporting electronic components and semiconductor chips to BRLE in the PRC. WE has two employees: (1) Wen, the owner of WE, and (2) Lin, Wen's wife who runs WE. WE does not sell domestically and does not sell to any customer other than BRLE. The evidence shows that on more than 30 occasions during the period of June 7, 2002 through September 17, 2004, WE exported national security controlled electronic components to BRLE in the PRC with knowledge that export licenses were required for the items and that those licenses were neither applied for nor received. The evidence also shows that BRLE caused such exports to happen with knowledge that a violation of the EAR would subsequently occur. BRLE is a distributor and not the end-user of these electronic components.

I find the evidence presented by BIS demonstrates that the Respondents conspired to do acts that violate the EAR and did in fact commit numerous violations of the EAR by participating in the unlicensed export of national security controlled items to the PRC. I further find that such violations have been significant, deliberate and covert, and are likely to occur again, especially given the nature of the structure and relationships of the Respondents. As such, a Temporary Denial Order (“TDO”) is needed to give notice to persons in the United States and abroad that they should cease dealing with the Respondents in export transactions involving commodities, software or technology that are subject to the EAR. Such a TDO is consistent with the public interest to preclude future violations of the EAR.

Accordingly, I find that a TDO naming WE, Wen, Lin and BRLE as Respondents is necessary and in the public interest, to prevent an imminent violation of the EAR. This Order is issued on an ex parte basis without a hearing based upon BIS's showing of an imminent violation.

It is therefore ordered:

First, that the Respondents, Wen Enterprises, 402 Wild Oak Drive, Manitowoc, WI 54220; Ning Wen, 402 Wild Oak Drive, Manitowoc, WI 54220; Hailin Lin, 402 Wild Oak Drive, Manitowoc, WI 54220; and Beijing Rich Linscience Electronics Company, No. 2 Zhong Guan Cun South Avenue, Cyber Mode Room 1001, Haidian District, Beijing, China 100086, and their successors and assigns and when or for acting on behalf of any of the Respondents, their officers, agents or representatives, (“Denied Persons”) may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaction involving any item exported or to be exported from the United States that is subject to the EAR, or in any other activity subject to the EAR.

Second, that no person may, directly or indirectly, do any of the following:

A. Export or reexport to or on behalf of the Denied Person any item subject to the EAR;

B. Take any action that facilitates the acquisition or attempted acquisition by the Denied Person of the ownership, possession, or control of any item subject to the EAR that has been or will be exported from the United States, including financing or other support activities related to a transaction whereby the Denied Person acquires or attempts to acquire such ownership, possession or control;

C. Take any action to acquire from or to facilitate the acquisition or attempted acquisition from the Denied Person of any item subject to the EAR that has been exported from the United States;

D. Obtain from the Denied Person in the United States any item subject to the EAR with knowledge or reason to know that the item will be, or is intended to be, exported from the United States; or

E. Engage in any transaction to service any item subject to the EAR that has been or will be exported from the United States and which is owned, possessed or controlled by the Denied Person, or service any item, of whatever origin, that is owned, possessed or controlled by the Denied Person is such service involves the use of any item subject to the EAR that has been or will be exported from the United States. For purposes of this paragraph, servicing means installation, maintenance, repair, modification or testing.

Third, that, after notice and opportunity for comment as provided in section 766.23 of the EAR, any other person, firm, corporation, or business organization related to any of the Respondents by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the Ear, BIS may seek renewal of this Order by filing a written request not later than 20 days before the expiration date. The Respondents may oppose a request to renew this Order by filing a written submission with the Assistant Secretary for Export Enforcement, which must be received not later than seven days before the expiration date of the Order.

A copy of this Order shall be served on the Respondents and shall be published in the Federal Register

This Order is effective immediately and shall remain in effect for 180 days.

Entered this 31st day of January, 2005.
Wendy L. Wysong,
Acting Assistant Secretary of Commerce for Export Enforcement.

[FR Doc. 05-2239 Filed 2-4-05; 8:45 am]

BILLING CODE 3510-DT-M